DEPARTMENT OF TRANSPORTATION

Surface Transportation Board

[STB Finance Docket No. 33888]

Tri-City Railroad Company, L.L.C.—Lease and Operation Exemption—Rail Line of the Port of Benton in Richland, WA

Tri-City Railroad Company, L.L.C. (Tri-City), a noncarrier, has filed a verified notice of exemption under 49 CFR 1150.31 to lease from the Port of Benton (POB) and operate approximately 17 miles of rail line currently owned by the POB,¹ known as the Hanford Site Rail System, Southern Connection extending from milepost 46.6 at the junction with the Union Pacific rail line in Richland, WA, to milepost 28.3 at the border to the U.S. Department of Energy's Hanford Site, connecting with the Hanford Site Rail System, Northern Connection (north of the City of Richland). Tri-City will become a Class III rail carrier.²

¹ See Port of Benton—Acquisition and Operation Exemption—U.S. Department of Energy Rail Line in Richland, WA, STB Finance Docket No. 33653 (STB served Oct. 6, 1998).

² Tri-City states that its projected revenues will not exceed those that would qualify it as a Class III carrier.

Tri-City indicates that it has entered into a maintenance and operation contract with the POB, which provides for Tri-City's operation of the rail line on behalf of the POB.

The transaction is scheduled to be consummated on or after June 21, 2000.

If the notice contains false or misleading information, the exemption is void ab initio. Petitions to revoke the exemption under 49 U.S.C. 10502(d) may be filed at any time. The filing of a petition to revoke will not automatically stay the transaction.

An original and 10 copies of all pleadings, referring to STB Finance Docket No. 33888, must be filed with the Surface Transportation Board, Office of the Secretary, Case Control Unit, 1925 K Street, NW., Washington, DC 20423-0001. In addition, one copy of each pleading must be served on John Hawkenson, 2579 Stevens Drive, Building 1171, P.O. Box 1700, Richland, WA 99352.

Board decisions and notices are available on our website at “WWW.STB.DOT.GOV.”

Decided: June 16, 2000.
By the Board, David M. Konschnik, Director, Office of Proceedings.
Vernon A. Williams,
Secretary.

[FR Doc. 00-15981 Filed 6-22-00; 8:45 am]

BILLING CODE 4915-00-P